ENVIRONMENTAL PROTECTION AGENCY

[EPA-HQ-OPP-2016-0108; FRL-9943-77]

Agency Information Collection Activities; Proposed Renewal of an Existing Collection (EPA ICR No. 0278.12); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Notice of Supplemental Distribution of a Registered Pesticide Product,” and identified by EPA ICR No. 0278.12 and OMB Control No. 2070-0044, represents the renewal of an existing ICR that is scheduled to expire on November 30, 2016. Before submitting the ICR to OMB for review and approval, EPA is soliciting comments on specific aspects of the proposed information collection that are summarized in this document. The ICR and accompanying material are available in the docket for public review and comment.

DATES: Comments must be received on or before June 3, 2016.

ADDRESSES: Submit your comments, identified by docket identification (ID) number EPA-HQ-OPP-2016-0108, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Jeffrey Bryan, Field and External Affairs Division (7506P), Office of Pesticide Programs, Environmental Protection Agency, 1200 Pennsylvania Ave. NW., Washington, DC 20460-0001; telephone number: (703) 347-8782; email address: bryan.jeffrey@epa.gov.

SUPPLEMENTARY INFORMATION:

I. What Information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Notice of Supplemental Distribution of a Registered Pesticide Product.

ICR number: EPA ICR No. 0278.12.

OMB control number: OMB Control No. 2070-0044.

ICR status: This ICR is currently scheduled to expire on November 30, 2016. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: This information collection activity provides the EPA with notification of supplemental registration of distributors of pesticide products. EPA is responsible for the regulation of pesticides as mandated by the Federal Insecticide, Fungicide and Rodenticide Act (FIFRA), as amended. Section 3(e) of FIFRA (see 7 U.S.C. 136a (e), allows pesticide registrants to distribute or sell a registered pesticide product under a different name instead of or in addition to the name under the original registration. Such distribution and sale is termed “supplemental distribution” and the product is termed a “distributor product.” EPA requires the pesticide registrant to submit a supplemental statement (EPA Form 8570-5, Notice of Supplemental Distribution of a Registered Pesticide Product) when the registrant has entered into an agreement with a second company that will distribute the registrant's product under the second company's name and product name.

Burden statement: The annual public reporting and recordkeeping burden for this collection of information is estimated to average 0.32 hours per response. The ICR, a copy of which is available in the docket, provides a detailed explanation of this estimate, which is only briefly summarized here:

Estimated total number of potential respondents: 1,885.

Frequency of response: On occasion.

Estimated total average number of responses for each respondent: 1.

Estimated total annual burden hours: 603 hours.

Estimated total annual costs: $54,463. This includes an estimated burden cost of $ 54,463 and an estimated cost of $ 0 for non-burden hour paperwork costs, e.g., investment or maintenance and operational costs.

Changes in the estimates from the last approval: The renewal of this ICR will result in an overall increase of 216 hours in the total estimated respondent burden identified in the currently approved ICR. This increase reflects the increase in the number of applications the Agency expects to receive in the next 3 years. EPA had expected to receive about 1,451 notice submissions annually over the past three years. Based on the number of submissions received annually over that period, the Agency now expects to receive about 1,885 notice submissions annually over the next 3 years. This change is an adjustment.

III. What is the next step in the process for this ICR?

EPA will consider the comments received and amend the ICRs as appropriate. The final ICR package will then be submitted to OMB for review and approval pursuant to 5 CFR 1320.12. EPA will issue another Federal Register notice pursuant to 5 CFR 1320.5(a)(1)(iv) to announce the submission of this ICR to OMB and the opportunity for the public to submit additional comments for OMB consideration. If you have any questions about this ICR or the approval process in general, please contact the person listed under FOR FURTHER INFORMATION CONTACT.

Authority: 44 U.S.C. 3501 et seq.

Dated: March 25, 2016.
James Jones,
Assistant Administrator, Office of Chemical Safety and Pollution Prevention.

[FR Doc. 2016-07490 Filed 4-1-16; 8:45 am]

BILLING CODE 6560-50-P